DEPARTMENT OF THE INTERIOR

National Park Service

Notice of Inventory Completion: Public Utility District No. 1 of Douglas County, East Wenatchee, WA; Central Washington University, Department of Anthropology and Museum, Ellensburg, WA; and Thomas Burke Museum of Natural History and Culture, University of Washington, Seattle, WA

AGENCY: National Park Service, Interior.

ACTION: Notice.

Notice is here given in accordance with provisions of the Native American Graves Protection and Repatriation Act (NAGPRA), 25 U.S.C. 3003, of the completion of an inventory of human remains in the control of Public Utility District No. 1 of Douglas County, East Wenatchee, WA, and in the possession of the Central Washington University, Department of Anthropology and Museum, Ellensburg, WA, and Thomas Burke Museum of Natural History and Culture (Burke Museum), University of Washington, Seattle, WA. The human remains were removed from Okanogan County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Central Washington University and Burke Museum professional staff in consultation with representatives of the Confederated Tribes of the Colville Reservation, Washington.

In 1963, human remains were removed from site 45-OK-52 in Okanogan County, WA, under the supervision of Garland Grabert, a University of Washington archeologist, as part of the fieldwork for the Public Utility District No. 1 of Douglas County Wells Dam Project. Museum records show the human remains from site 45-OK-52 were taken to the Anthropology Department at the University of Washington, and subsequently transferred to the Burke Museum (Accn. 1965-74). Many of the individuals were subsequently transferred to other museums and/or reburied.

In 2004, Central Washington University identified a minimum of one individual from 45-OK-52 in their collection. Also in 2004, the Burke Museum identified a minimum of one individual from this site in their collection. No known individuals were identified. No associated funerary objects are present.

In 1963, human remains were removed from site 45-OK-66 in Okanogan County, WA, under the supervision of Garland Grabert, a University of Washington archeologist, as part of the fieldwork for the Public Utility District No. 1 of Douglas County Wells Dam Project. Museum records show the human remains, except for Burial 1, were taken to the Anthropology Department at the University of Washington, and subsequently transferred to the Burke Museum (Accn. 1955-74). Many of the individuals were subsequently transferred to other museums and/or reburied. The remainder of the individuals were subsequently transferred to other museums and/or reburied.

In 2004, Central Washington University identified a minimum of three individuals from 45-OK-66 in their collection. No known individuals were identified. No associated funerary objects are present.

Site 45-OK-52 was a housepit village found along the shore of the Columbia River just upstream of the mouth of the Okanogan River on Cassimer Bar. Site 45-OK-66 is a cemetery, which paralleled the Columbia River, upstream from the mouth of the Okanogan River.

Archeological evidence indicates that the burials found at sites 45-OK-52 and 45-OK-66 date to the prehistoric and historic period. The most common method of interment was tightly flexed in a supine position beneath a cedar cist and a rock cairn. This pattern is consistent in all details, except the cist, with the ethnohistorically reported mortuary practices of the Sinkaietk people of the southern Okanogan River. Descendants of the Sinkaietk are members of the Confederated Tribes of the Colville Reservation, Washington.

The geographical location of the burials are consistent with the prehistoric and historic territory of the Confederated Tribes of the Colville Reservation, Washington. Consultation evidence provided by representatives of the Confederated Tribes of the Colville Reservation, Washington indicates that Okanogan County is part of the traditional and historically known occupation territory of the Confederated Tribes of the Colville Reservation, Washington.

Officials of Public Utility District No. 1 of Douglas County have determined that, pursuant to 25 U.S.C. 3001 (9-10), the human remains described above represent the physical remains of five individuals of Native American ancestry. Officials of the Public Utility District No. 1 of Douglas County also determined that, pursuant to 25 U.S.C. 3001 (2), there is a relationship of shared group identity that can be reasonably traced between the Native American human remains and the Confederated Tribes of the Colville Reservation, Washington.

Representatives of any other Indian tribe that believes itself to be culturally affiliated with the human remains should contact Lourdes Henebry-DeLeon, NAGPRA Program Director, Department of Anthropology and Museum, Central Washington University, Ellensburg, WA 98926-7544, telephone (509) 963-2671 before March 9, 2007. Repatriation of the human remains to the Confederated Tribes of the Colville Reservation, Washington may proceed after that date if no additional claimants come forward.

Public Utility District No. 1 of Douglas County is responsible for notifying the Confederated Tribes of the Colville Reservation, Washington this notice has been published.

Dated: December 21, 2006.
Sherry Hutt,
Manager, National NAGPRA Program.

[FR Doc. E7-1966 Filed 2-6-07; 8:45 am]

BILLING CODE 4312-50-S